DEPARTMENT OF TRANSPORTATION

Federal Aviation Administration

14 CFR Part 39

[Docket No. FAA-2016-4219; Product Identifier 2015-NM-169-AD]

RIN 2120-AA64

Airworthiness Directives; The Boeing Company Airplanes

AGENCY: Federal Aviation Administration (FAA), DOT.

ACTION: Supplemental notice of proposed rulemaking (SNPRM); reopening of comment period.

SUMMARY: We are revising an earlier proposal for certain The Boeing Company Model 777 airplanes. This action revises the notice of proposed rulemaking (NPRM) by adding an inspection to determine a part number and to incorporate an airworthiness limitation (AWL) into the maintenance or inspection program. This action also revises the NPRM by specifying a new version of the airline information management system (AIMS) software for airplanes equipped with AIMS-2 software. We are proposing this Airworthiness Directive (AD) to address the unsafe condition on these products. Since these actions impose an additional burden over that proposed in the NPRM, we are reopening the comment period to allow the public the chance to comment on these proposed changes.

DATES: The comment period for the NPRM published in the Federal Register on March 8, 2016 (81 FR 12039), is reopened.

We must receive comments on this SNPRM by October 5, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this SNPRM, contact Boeing Commercial Airplanes, Attention: Contractual & Data Services (C&DS), 2600 Westminster Blvd., MC 110 SK57, Seal Beach, CA 90740-5600; telephone 562 797 1717; Internet https://www.myboeingfleet.com. You may view this referenced service information at the FAA, Transport Standards Branch, 1601 Lind Avenue SW., Renton, WA. For information on the availability of this material at the FAA, call 425-227-1221. It is also available on the Internet at http://www.regulations.gov by searching for and locating Docket No. FAA-2016-4219.

Examining the AD Docket

You may examine the AD docket on the Internet at http://www.regulations.gov by searching for and locating Docket No. FAA-2016-4219; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: David Lee, Aerospace Engineer, Propulsion Section, FAA, Seattle ACO Branch, 1601 Lind Avenue SW., Renton, WA 98057-3356; phone: 425-917-6497; fax: 425-917-6590; email: david.a.lee@faa.gov.

SUPPLEMENTARY INFORMATION:

Comments Invited

We invite you to send any written relevant data, views, or arguments about this proposal. Send your comments to an address listed under the ADDRESSES section. Include “Docket No. FAA-2016-4219; Product Identifier 2015-NM-169-AD” at the beginning of your comments. We specifically invite comments on the overall regulatory, economic, environmental, and energy aspects of this SNPRM. We will consider all comments received by the closing date and may amend this SNPRM because of those comments.

We will post all comments we receive, without change, to http://www.regulations.gov, including any personal information you provide. We will also post a report summarizing each substantive verbal contact we receive about this proposed AD.

Discussion

We issued an NPRM to amend 14 CFR part 39 by adding an AD that would apply to certain The Boeing Company Model 777 airplanes. The NPRM published in the Federal Register on March 8, 2016 (81 FR 12039). The NPRM was prompted by reports of latently failed fuel shutoff valves discovered during fuel filter replacement. The NPRM proposed to require replacing certain motor-operated valve (MOV) actuators with new MOV actuators on both AIMS-1- and AIMS-2-equipped airplanes, or installing a newer software version on AIMS-2-equipped airplanes.

Actions Since the NPRM Was Issued

Since we issued the NPRM, several operators commented on issues with the installation of AIMS-2 Blockpoint V17.1 software on certain airplane configurations and under certain operating conditions. Boeing recently released version 17A of this software to address these issues. We have determined that it is necessary to mandate the use of AIMS-2 Blockpoint version 17A to address the identified unsafe condition for the affected airplanes.

In addition, on November 17, 2016, we approved an alternative method of compliance (AMOC) Notice 777-28A0034 AMOC 02, via FAA letter 140S-16-180. This AMOC identified changes to Boeing Service Bulletin 777-28A0034, Revision 3, dated September 25, 2015, which corrects the description of Group 4 airplanes. This AMOC, when combined with the previously approved AMOCs for Boeing Service Bulletin 777-28A0034, Revision 3, dated September 25, 2015, applies to the accomplishment of paragraphs (g), (h), (k), and (l) of AD 2013-05-03, Amendment 39-17375 (78 FR 17290, March 21, 2013) (“AD 2013-05-03”), which requires inspecting and replacing certain MOV actuators in the main and center fuel tanks on certain The Boeing Company Model 777-200, -200LR, -300, and -300ER series airplanes.

In the NPRM, we included costs for doing an inspection to identify the part number of the MOV actuators. However, we inadvertently left out the requirement for this inspection in the NPRM. We have added this requirement to paragraph (g) of this proposed AD.

Comments

We gave the public the opportunity to comment on the NPRM. The following presents the comments received on the NPRM and the FAA's response to each comment.

Support for the NPRM

The Air Line Pilots Association, International, expressed support for the NPRM.

Request To Terminate Part of an Earlier AD

Boeing, All Nippon Airways (ANA), and United Airlines (UAL) all requested that we include a paragraph stating that the proposed AD (in the NPRM) is terminating action to all requirements of AD 2015-19-01, Amendment 39-18264 (80 FR 55521, September 16, 2015) (“AD 2015-19-01”), which required operators to revise the maintenance or inspection program, as applicable, to add airworthiness limitation 28-AWL-MOV. Boeing stated that AD 2015-19-01 also required repetitive inspections of MOVs for Boeing Model 777 airplanes with fuel spar actuators having certain part numbers. Boeing noted that the proposed AD (in the NPRM) would require replacing those fuel spar actuators or upgrading the AIMS-2 software. Boeing concluded that by complying with the actions of the proposed AD (in the NPRM), operators are also complying with all requirements of AD 2015-19-01.

We agree with the commenters' request to specify a condition that would terminate the requirements of AD 2015-19-01. However, we find it necessary to add another step to this proposed AD before the requirements of AD 2015-19-01 can be terminated. We understand that operators typically manage a single maintenance or inspection program for their entire fleets, rather than for individual airplanes. If operators are allowed to remove the AWL mandated by AD 2015-19-01 before the actions in the proposed AD are completed on the entire fleet, the AWL and its associated repetitive inspections could be inadvertently removed from individual airplanes in the fleet before the unsafe condition is mitigated.

In addition, we consider that an additional action is necessary to prevent an airplane from being modified to a pre-AD condition. This proposed AD would prohibit the installation of MOV actuator P/N MA30A1001 (Boeing P/N S343T003-66) or MA20A2027 (Boeing P/N S343T003-56) at the fuel spar valve locations. However, these two part numbers can still be installed at other locations (as their failure is of economic impact only), and could be inadvertently re-installed at the fuel spar valve locations. To address this concern, we have added paragraph (h) to this AD to specify a requirement for the incorporation of a new AWL. Other than the prohibition, there is no maintenance action associated with the new AWL.

The incorporation of the new AWL would be required after the accomplishment of the actions specified by paragraph (g) of the proposed AD on all affected airplanes in an operator's fleet, but within 24 months after the effective date of this AD. If an operator accomplishes all required actions on all affected airplanes in the fleet before the end of the 24-month compliance time, the operator has an option to incorporate the new AWL at that time, or at a later time, but before the end of the 24-month compliance time. This option is intended to allow continued operation of an airplane if an airplane having the pre-AD configuration is introduced into an operator's fleet before the end of the compliance time, but after the accomplishment of the required actions on all other airplanes in the fleet.

We have added paragraphs (h) (specifying incorporation of the AWL) and (i) (stating that accomplishing the actions in this AD terminates all requirements of AD 2015-19-01) to this proposed AD and redesignated subsequent paragraphs accordingly. We have also revised paragraph (b) of this proposed AD to indicate that this proposed AD would affect AD 2015-19-01.

Request To Allow Repetitive Inspections as an AMOC to Parts Replacement

ANA requested that we allow the repetitive inspections specified in AD 2015-19-01 in lieu of the actions specified in paragraph (g) of the proposed AD (in the NPRM). ANA stated that both AD 2015-19-01 and the proposed AD (in the NPRM) can detect and correct latent failure of the fuel shutoff valve, and the purpose of both ADs is the same.

We disagree with the request because the actions in AD 2015-19-01 were intended to mitigate the unsafe condition while a permanent solution was being developed. A permanent design modification is preferable to ongoing inspections, since it eliminates the potential latency failure period between inspections. The actions required by this proposed AD are intended to eliminate the unsafe condition. We have not changed this proposed AD regarding this issue.

Request To Remove or Revise Service Information

American Airlines (AAL) and Japan Airlines (JAL) requested that we revise the proposed AD (in the NPRM) to allow installation of Version 17.1 or a later approved version of the AIMS-2 software, or to remove the requirement to update the AIMS-2 software in accordance with Boeing Service Bulletin 777-31-0227, Revision 1, dated August 12, 2015. JAL noted that incorporation of this service information could cause the navigation and multifunction displays to momentarily go blank during takeoff and landing. AAL added that incorporation of this service information on airplanes equipped with VHF radios only capable of Mode 0 will make the VHF datalink inoperable. AAL noted that the proposed solution from Boeing is to replace the VHF radio, creating an additional financial burden. AAL stated that Boeing was planning on addressing this issue through a service bulletin related to AIMS-2 Blockpoint Version 17A. AAL also asked for clarification regarding what constitutes a later approved software version.

We agree with the commenters' request. The installation of AIMS-2 Blockpoint Version 17.1 on certain airplane configurations, and under certain operating conditions, could allow the issues noted by AAL and JAL. Since we issued the NPRM, Boeing released Service Bulletin 777-31-0218, dated September 8, 2016, which incorporates AIMS-2 Blockpoint Version 17A to address these issues. We have included this new service information in this SNPRM and revised paragraph (g)(2)(ii) of this proposed AD to refer to the new software version and service information. We have also revised paragraph (i) of this proposed AD to include credit for the installation of AIMS-2 Blockpoint Version 17 or 17.1, since this software is one way to prevent the latent failure of the MOV actuator and works under most airplane configurations and operating conditions. We have also revised paragraph (g)(2)(ii) of this proposed AD to clarify what qualifies as a later approved software version.

Request To Provide Credit

UAL requested that paragraph (h) of the proposed AD (in the NPRM) be revised to provide credit for actions accomplished in accordance with Boeing Service Bulletin 777-28A0034, Revision 3, dated September 25, 2015. UAL provided no justification for its request.

We disagree because we find the requested change unnecessary. Paragraph (f) of this proposed AD states that the actions must be completed within the compliance times specified, “unless already done.” Therefore, if the actions in paragraph (g)(1) or (g)(2)(i) of this proposed AD are already completed in accordance with Boeing Service Bulletin 777-28A0034, Revision 3, dated September 25, 2015, no credit is needed for these actions. The purpose of paragraph (j) of this proposed AD (paragraph (h) in the proposed AD (in the NPRM)) is to provide credit for actions completed on or before the effective date of the AD using earlier versions of service information. We have not changed this proposed AD regarding this issue.

Request for Approval of an AMOC to AD 2013-05-03

ANA requested that we allow the actions of the proposed AD (in the NPRM) to be an approved AMOC to AD 2013-05-03. ANA stated that AD 2013-05-03 requires operators to replace an MOV actuator with a new or serviceable actuator having part number (P/N) MA30A1001 or with an MOV actuator meeting certain criteria. ANA noted that the proposed AD (in the NPRM) would require replacing MOV actuators with P/N MA30A1017, a different requirement than in AD 2013-05-03.

We disagree with the commenter's request. We have already approved the use of Boeing Service Bulletin 777-28A0034, Revision 3, dated September 25, 2015, as an AMOC to the requirements of paragraph (h) of AD 2013-05-03 to replace an affected MOV actuator, as stated therein. Therefore, it is not necessary to restate this AMOC in this proposed AD. We have not changed this proposed AD regarding this issue.

Request To Extend the Compliance Time

ANA and JAL both requested that we extend the compliance time of the proposed AD (in the NPRM). JAL requested that the compliance time be extended from 24 months to 60 months because AD 2016-04-20, Amendment 39-18414 (81 FR 10460, March 1, 2016) (“AD 2016-04-20”) and AD 2016-21-05, Amendment 39-18686 (81 FR 79384, November 14, 2016) (“AD 2016-21-05”) also require the installation of MOV actuator P/N MA30A1017 (at different locations on the airplane and/or different airplane models), but allow 60 months for the installation. ANA requested that the compliance time be extended to 8 years, because Boeing Service Bulletin 737-28-1314 specifies installation of the same MOV actuator P/N MA30A1017 (on different airplane models) with a compliance time of 8 years. ANA stated that because the same part is used on Boeing Model 737, 767, and 777 airplanes, the vendor will not be able to supply enough MOV actuators to complete the proposed actions within 24 months on Model 777 airplanes.

We disagree with the requests. The compliance time of 24 months was coordinated with Boeing as a practical compliance time for Model 777 airplanes. We may consider providing AMOC approval if the Boeing vendor of the MOV actuators is unable to provide an adequate supply for operators to comply with these actions in the applicable compliance times.

Further, AD 2013-05-03 requires the removal of MOV actuator P/N MA20A1001-1 (S343T003-39) on both AIMS-1 and AIMS-2 airplanes, with the exception that the MOV actuator does not have to be removed from the fuel spar valve locations on airplanes on which AIMS-1 is installed. Although AD 2016-04-20 and AD 2016-21-05 provide instructions to replace the fuel spar valve, they do not require that the MOV actuator only be replaced with P/N MA30A1017. MOV actuators with P/N MA20A2027 (S343T003-56) and MA30A1001 (S343T003-66) have been determined to be prone to latent failure, so unless the airplane is equipped with AIMS-2 Blockpoint Version 17 or later (which mitigates the unsafe condition), we are mandating that only P/N MA30A1017 (S343T003-76) be installed at the left and right fuel spar valve locations. We have not changed this proposed AD regarding this issue.

Related Service Information Under 1 CFR Part 51

We reviewed Boeing Service Bulletin 777-28A0034, Revision 3, dated September 25, 2015. This service information describes procedures for, among other things, inspection and replacement of the main and center fuel tank valve actuators.

We also reviewed Boeing Service Bulletin 777-31-0218, dated September 8, 2016. This service information describes procedures for installing the AIMS-2, Blockpoint Version 17A software upgrade.

This service information is reasonably available because the interested parties have access to it through their normal course of business or by the means identified in the ADDRESSES section.

FAA's Determination

We are proposing this SNPRM because we evaluated all the relevant information and determined the unsafe condition described previously is likely to exist or develop in other products of the same type design. Certain changes described above expand the scope of the NPRM. As a result, we have determined that it is necessary to reopen the comment period to provide additional opportunity for the public to comment on this SNPRM.

Proposed Requirements of This SNPRM

This SNPRM would require accomplishing the actions specified in the service information described previously, except as discussed under “Differences Between this SNPRM and the Service Information.” For information on the procedures and compliance times, see this service information at http://www.regulations.gov by searching for and locating Docket No. FAA-2016-4219.

Differences Between This SNPRM and the Service Information

We have excluded line numbers 1165 and subsequent from the applicability section of this proposed AD as these airplanes were manufactured with AIMS-2 Blockpoint Version 17 or higher installed, and are not affected by the unsafe condition.

Costs of Compliance

We estimate that this proposed AD affects 154 airplanes of U.S. registry. We estimate the following costs to comply with this proposed AD:

Estimated Costs
Action | Labor cost | Parts cost | Cost per product | Cost on U.S. operators
Inspection | 1 work-hour × $85 per hour = $85 | $0 | $85 | $13,090.
Replacement of two MOV actuators without fuel tank access | 5 work-hours × $85 per hour = $425 | 12,000 | 12,425 | Up to $422,450.
AIMS-2, Blockpoint Version 17A, installation | 7 work-hours × $85 per hour = $595 | 0 | 595 | Up to $71,400.
28-AWL-MOVA incorporation | 1 work-hour × $85 per hour = $85 | 0 | 85 | $13,090.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2016-4219; Product Identifier 2015-NM-169-AD.

(a) Comments Due Date

We must receive comments by October 5, 2017.

(b) Affected ADs

This AD affects AD 2015-19-01, Amendment 39-18264 (80 FR 55521, September 16, 2015).

(c) Applicability

This AD applies to The Boeing Company Model 777-200, 777-200LR, 777-300, 777-300ER, and 777F series airplanes, certificated in any category, excluding line numbers 1165 and subsequent.

(d) Subject

Air Transport Association (ATA) of America Code 28, Fuel.

(e) Unsafe Condition

This AD was prompted by reports of latently failed fuel shutoff valves discovered during fuel filter replacement. We are issuing this AD to prevent latent failure of the fuel shutoff valve to the engine, which could result in the inability to terminate fuel flow to the engine and, in the case of an engine fire, could lead to wing failure.

(f) Compliance

Comply with this AD within the compliance times specified, unless already done.

(g) Inspection and Replacement

Within 24 months after the effective date of this AD: Do an inspection to determine the part numbers (P/N) of the motor-operated valve (MOV) actuators of the fuel shutoff valves for the left and right engines, in accordance with the Accomplishment Instructions of Boeing Service Bulletin 777-28A0034, Revision 3, dated September 25, 2015. A review of airplane maintenance records is acceptable in lieu of this inspection if the part number can be conclusively determined from that review. If any MOV actuator not having P/N MA30A1017 (Boeing P/N S343T003-76), is found, do the actions in paragraphs (g)(1) or (g)(2) of this AD, as applicable.

(1) For airplanes having airplane information management system (AIMS) 1 installed: Within 24 months after the effective date of this AD, install new engine fuel spar MOV actuators having part number (P/N) MA30A1017, in accordance with the Accomplishment Instructions of Boeing Service Bulletin 777-28A0034, Revision 3, dated September 25, 2015.

(2) For airplanes having AIMS-2, Blockpoint Version 16 or earlier, installed: Within 24 months after the effective date of this AD, do the actions specified in paragraph (g)(2)(i) or (g)(2)(ii) of this AD.

(i) Install new engine fuel spar MOV actuators having P/N MA30A1017, in accordance with the Accomplishment Instructions of Boeing Service Bulletin 777-28A0034, Revision 3, dated September 25, 2015.

(ii) Install AIMS-2, Blockpoint Version 17A or later-approved version, in accordance with the Accomplishment Instructions of Boeing Service Bulletin 777-31-0218, dated September 8, 2016. Later-approved versions of the software are only those Boeing software versions that are approved as a replacement for AIMS-2, Blockpoint Version 17A, and approved as part of the type design by the FAA after issuance of Boeing Service Bulletin 777-31-0218, dated September 8, 2016.

(h) Revision of Maintenance or Inspection Program

Within 24 months after the effective date of this AD, and after accomplishing the actions required by paragraph (g) of this AD on all airplanes in an operator's fleet, as applicable, revise the maintenance or inspection program, as applicable, to add Airworthiness Limitation (AWL) 28-AWL-MOVA by incorporating the information specified in figure 1 to paragraph (h) of this AD into the Airworthiness Limitations Section of the Instructions for Continued Airworthiness.

Figure 1 to Paragraph (h) of this AD—AWL for Engine Fuel Shutoff Valve (Fuel Spar Valve) Actuator Installation Prohibition
AWL No. | Applicability | Description
28-AWL-MOVA | (1) Airplanes with AIMS-1 system, or (2) Airplanes with AIMS-2 BlockPoint (BP) v 16 and earlier software | Motor Operator Valve (MOV) Actuator—Prohibition of Installation of Specific Part Numbers. Installation of MOV actuator part number (P/N) MA30A1001 (Boeing P/N S343T003-66) and P/N MA20A2027 (Boeing P/N S343T003-56) is prohibited at the following positions:
|  | 1. Left engine fuel shutoff spar valve position. 2. Right engine fuel shutoff spar valve position.

(i) Terminating Action for AD 2015-19-01

Accomplishment of the actions required by paragraphs (g) and (h) of this AD terminates all requirements of AD 2015-19-01.

(j) Credit for Previous Actions

This paragraph provides credit for actions specified in paragraph (g)(2)(ii) of this AD, if AIMS-2 Blockpoint Version 17 or 17.1 was installed before the effective date of this AD either in production or using Boeing Special Attention Service Bulletin 777-31-0227, dated November 7, 2014; or Revision 1, dated August 12, 2015.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) For service information that contains steps that are labeled as Required for Compliance (RC), the provisions of paragraphs (k)(4)(i) and (k)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition

(l) Related Information

(1) For more information about this AD, contact David Lee, Aerospace Engineer, Propulsion Section, FAA, Seattle ACO Branch, 1601 Lind Avenue SW., Renton, WA 98057-3356; phone: 425-917-6497; fax: 425-917-6590; email: david.a.lee@faa.gov.

(2) For service information identified in this AD, contact Boeing Commercial Airplanes, Attention: Contractual & Data Services (C&DS), 2600 Westminster Blvd., MC 110 SK57, Seal Beach, CA 90740-5600; telephone 562 797 1717; Internet https://www.myboeingfleet.com. You may view this referenced service information at the FAA, Transport Standards Branch, 1601 Lind Avenue SW., Renton, WA. For information on the availability of this material at the FAA, call 425-227-1221.

Issued in Renton, Washington, on July 28, 2017.
John P. Piccola, Jr.,
Acting Director, System Oversight Division, Aircraft Certification Service.

[FR Doc. 2017-16570 Filed 8-18-17; 8:45 am]

BILLING CODE 4910-13-P